DEPARTMENT OF EDUCATION

Full-Service Community Schools

Catalog of Federal Domestic Assistance (CFDA) Number: 84.215J

AGENCY: Office of Innovation and Improvement, Department of Education.

ACTION: Notice of final priorities, requirements, definitions, and selection criteria.

SUMMARY: The Secretary of Education announces priorities, requirements, definitions, and selection criteria for the Full-Service Community Schools (FSCS) program. The Secretary may use these priorities, requirements, definitions, and selection criteria for competitions in fiscal year (FY) 2010 and later years. We take this action to focus Federal assistance on supporting collaboration among schools and entities within a community in the provision of comprehensive academic, social, and health services for students, students' family members, and community members. We intend the priorities to support the improvement of student outcomes through their promotion of strong school-community partnerships that support effective resource coordination and service delivery. The FSCS program is a “place-based” program that can leverage investments by focusing resources in targeted places, drawing on the compounding effects of well-coordinated actions. Place-based approaches can also streamline otherwise redundant and disconnected programs.

DATES: Effective Date: These priorities, requirements, definitions, and selection criteria are effective July 8, 2010.

FOR FURTHER INFORMATION CONTACT: Jill Staton, U.S. Department of Education, 400 Maryland Avenue, SW., room 4W245, Washington, DC 20202-5970. Telephone (202) 401-2091 or by e-mail: FSCS@ed.gov.

If you use a telecommunications device for the deaf (TDD), call the Federal Relay Service, toll free, at 1-800-877-8339.

SUPPLEMENTARY INFORMATION:

Purpose of Program: The Fund for the Improvement of Education (FIE), which is authorized by section 5411 of the Elementary and Secondary Education Act of 1965, as amended (ESEA), supports nationally significant programs to improve the quality of elementary and secondary education at the State and local levels and help all children meet challenging academic content and academic achievement standards. The FSCS program, which is funded under FIE, encourages coordination of academic, social, and health services through partnerships among (1) public elementary and secondary schools; (2) the schools' local educational agencies (LEAs); and (3) community-based organizations, non-profit organizations, and other public or private entities. The purpose of this collaboration is to provide comprehensive academic, social, and health services for students, students' family members, and community members that will result in improved educational outcomes for children.

Program Authority: 20 U.S.C. 7243-7243b.

We published a notice of proposed priorities, requirements, definitions, and selection criteria for this program in the Federal Register on February 8, 2010 (75 FR 6188-6192). That notice contained background information and our reasons for proposing the particular priorities, requirements, definitions, and selection criteria.

There are differences between the notice of proposed priorities, requirements, definitions and selection criteria (NPP) and this notice of final priorities, requirements, definitions, and selection criteria (NFP) as discussed in the Analysis of Comments and Changes section elsewhere in this notice.

Public Comment: In response to our invitation in the NPP, 11 parties submitted comments on the proposed priorities, requirements, definitions, and selection criteria.

Generally, we do not address technical and other minor changes, or suggested changes the law does not authorize us to make under the applicable statutory authority. In addition we do not address general comments that raised concerns not directly related to the proposed priorities, requirements, definitions, and selection criteria.

Analysis of Comments and Changes: An analysis of the comments and of any changes in the priorities, requirements, definitions, and selection criteria since publication of the notice of proposed priorities, requirements, definitions, and selection criteria follows. We discuss substantive issues under the title of the item to which they pertain.

Absolute Priority—Eligible Services

Comment: Two commenters suggested that services provided under the FSCS program include strong alignment of academic supports and enrichment activities with existing resources for remedial programming. In addition, one commenter noted the importance of aligning remedial education and academic enrichment activities with State standards, curricula, and academic achievement data to ensure stronger connections between school day and after-school activities.

Discussion: We agree that remedial education, academic supports, and enrichment activities should be clearly and deliberately aligned with other key components of successful schools (e.g., a State's high academic standards; rigorous curricula; effective teachers; effective school leadership; well-designed assessments and accountability systems; positive school climates; and strong professional development) and are modifying the absolute priority accordingly. We believe that such coordination and alignment are likely to support student academic success by promoting cost-effective school-community partnerships that are tailored to the needs of students and schools.

Changes: We have revised the service category regarding remedial education in the absolute priority. This category now reads “Remedial education, aligned with academic supports and other enrichment activities, providing students with a comprehensive academic program.”

Comment: One commenter suggested that the FSCS program require the use of a standardized social-emotional curriculum for grades K-12 and require grantees to implement the resiliency-based after-school activities based on the 40 developmental assets from the Search Institute's Healthy Communities/Healthy Students program.

Discussion: We decline to adopt the changes suggested by the commenter because we believe that mandating the use of specific curricula or frameworks would unduly restrict the flexibility of applicants to develop FSCS projects that are most appropriately suited to their particular circumstances. Applicants are free to select models, which may include those suggested by the commenter, that they deem most appropriate to address the needs of their proposed project.

Changes: None.

Comment: One commenter suggested that while family literacy and parental involvement are related activities, they are distinct in scope and execution and therefore, should not be grouped into a single service category. The commenter further stated that parent education and parent leadership programs are related, yet distinct, and should be listed separately in the final notice.

Discussion: We decline to adopt the changes suggested by the commenter because we believe that family literacy, parental involvement, parent education, and parent leadership are related in that they seek to meaningfully engage parents in ways that support their children's learning. Services and activities coordinated or provided by the FSCS should be based on identified needs and aligned with clearly articulated outcomes, regardless of the comprehensive nature of the service category itself. Because we believe these services are so inter-related, we are revising the absolute priority to consolidate them under one broad service category of family engagement.

Changes: In the absolute priority, we have combined the parental involvement, family literacy activities, parent education, and parent leadership program service categories into one service category, which now reads “Family engagement, including parental involvement, parent leadership, family literacy, and parent education programs.”

Comment: Some commenters recommended that in addition to parental involvement and family literacy activities, family services include linking families to a wide range of supports, including public health insurance options, social service programs (e.g., food stamps, Medicaid, and Temporary Assistance for Needy Families), and programs that encourage family financial stability (e.g., benefit screenings, assistance in claiming eligible tax credits and income supports, financial literacy programs, employment services, and asset-building programs).

Discussion: We agree with the commenters that the receipt of information about health insurance options, social service programs, and programs that promote family financial stability can contribute to the overall well-being of a family. Providing information about health insurance options is an eligible activity under the primary health care service category in the absolute priority. We believe that using FSCS grant funds for activities that improve access to and use of social services programs and programs that promote family financial stability is also consistent with the purpose of the FSCS program, and are adding these activities to the absolute priority. It is important to note, however, that FSCS Federal grant funds are of greatest benefit when used to coordinate existing resources and services. Community schools cannot be sustained if administrators rely entirely on Federal FSCS funds to provide services.

Changes: We have added a new service category to the absolute priority that provides for activities that improve access to and use of social service programs and programs that promote family financial stability.

Comment: One commenter suggested that the needs of students who have been chronically absent from school should receive greater prominence in the list of eligible services in the absolute priority. The commenter noted that chronic absenteeism during the early elementary school years can significantly affect a student's future academic success.

Discussion: We agree with the commenter that chronic absenteeism can significantly affect academic success. We note that there is a growing body of national research linking chronic absence (missing 10 percent or more of school due to excused or unexcused absences) to poor academic achievement, dropping out of school, and other negative outcomes. A report conducted by the National Center for Children in Poverty in 2008 examined the prevalence, consequences, and potential contributing factors associated with chronic absence in grades K-3 and noted that one in ten kindergarten and first-grade students is chronically absent nationally.¹ The effects of chronic absence can be magnified for children living in poverty because they tend to have access to fewer resources at home to make up for lost time in school. We will, therefore, add to the service category in the absolute priority, programs that provide assistance to students who have been chronically absent.

¹ Chang, Hedy; Romero, Mariajose. Present, Engaged and Accounted For: The Critical Importance of Addressing Chronic Absence in the Early Grades. The Annie E. Casey Foundation; National Center for Children in Poverty (2008).

Changes: We have revised the service category regarding programs that provide assistance to students who have been truant, suspended, or expelled, to include students who have been chronically absent.

Comment: One commenter recommended modifying the service category regarding nutrition services to include a reference to physical education classes. The commenter asserted that nutrition, physical activity, and physical education are equally important in ensuring the healthy physical development of a child and his or her academic success.

Discussion: We agree that physical activity and physical education are important to the healthy development of a child. An underlying goal of the FSCS program, however, is to supplement the in-school curriculum with additional services, supports, and opportunities, not to supplant it. We consider physical education to be a component of the in-school curriculum that, and as such, should not be supported using FSCS grant funds. Physical activities, however, are allowable if carried out in association with nutrition services or with mentoring and youth development services. We will, therefore, add physical activities to the nutrition services category in the absolute priority.

Changes: We have revised the nutrition services category to include physical activities.

Comment: One commenter suggested that while primary health care and dental care are related to each other, they should be listed as separate eligible activities and that the need for and delivery of one or both of these services should be based on the results of a needs assessment.

Discussion: We agree with the commenter that the provision of primary health care or dental care should be based on the needs of students, students' family members, and community members. We decline, however, to adopt the changes suggested by the commenter. Listing primary health care and dental care in one service category is unlikely to affect the coordination or delivery of these services by grantees under this program. All services and activities coordinated or provided by the FSCS should be based on identified needs and aligned with clearly articulated outcomes, regardless of the comprehensive nature of the service category itself.

Changes: None.

Comment: One commenter recommended that vision care and the provision of corrective eyewear be explicitly included as an element of the primary health and dental care service category since vision problems can interfere with students' academic attainment. The commenter noted that undiagnosed and untreated vision problems are especially problematic among low-income and minority children.

Discussion: We agree that access to vision care can affect students' success in school. Vision screening and vision care, including the provision of corrective eyewear, are allowable activities under the primary health care and dental care service category. Therefore, it is unnecessary to make the changes suggested by the commenter.

Changes: None.

Comment: One commenter suggested that in addition to counseling services, clinical mental health services should be included as an eligible service because many students in low-performing schools also live in high-poverty neighborhoods with increased rates of trauma due to violence, drug use, and other environmental stressors.

Discussion: We agree with the commenter that addressing the mental health needs of students and their family members supports social and academic development and that these services may be broader than the proposed “mental health counseling services.” We recognize that mental health services encompass a broad range of school- and community-based services, including but not limited to clinical mental health services, and that the types of interventions may vary and should be based on the needs of the service recipient. We are, therefore, modifying the service category for mental health counseling services to be more general, which will allow applicants to define the appropriate range of mental health interventions needed to meet the needs of their target population.

Change: We have revised the mental health counseling services service category to read “Mental health services.”

Competitive Preference Priority—Strategies That Support Turning Around Persistently Lowest-Achieving Schools

Comment: Several commenters expressed concern that the competitive preference priority for Strategies that Support Turning Around Persistently Lowest-Achieving Schools may result in the Department making awards to a cohort of grantees that is limited to only those Title I schools identified as persistently lowest-achieving. Some commenters stated that the competitive preference priority should not be limited only to the persistently lowest-achieving schools but, instead, be more broadly defined to include all schools that are eligible for Title I funding. Several commenters contended that it takes significantly more time, effort, and resources for persistently lowest-achieving schools to move through the developmental stages of a community school and to demonstrate results. In order to select projects with the greatest potential for success, one commenter suggested that the Department select a subset of applicants with schools that are persistently lowest-achieving from among the overall applicant pool in order to provide a more balanced portfolio of grantees.

Another commenter stated that the Department's School Improvement Grants (SIG) program already prioritizes persistently lowest-achieving schools and provides a significant amount of financial resources to support implementation of the school intervention models. Other commenters stated that the competitive preference priority should be eliminated and that the FSCS program should support the development of the highest-quality full-service community schools, regardless of Title I funding status.

Discussion: We appreciate the commenters' concerns. This competitive preference priority is aligned with the Department's reform goal of improving achievement in low-performing schools through intensive support and effective interventions. Persistently lowest-achieving schools are most vulnerable and in need of a well-coordinated and integrated set of services to support their turnaround efforts.

With respect to the SIG program, we note that FSCS program funds can be used to strengthen implementation of the intervention models authorized under the SIG program by leveraging resources that support a comprehensive academic program and qualify as one or more of the allowable FSCS services. FSCS funds cannot be used for direct implementation of the SIG interventions.

In response to commenters' concerns that establishing a competitive preference priority for these schools would prevent support for the development of the highest quality full-service community schools, we note that including this competitive preference priority will not restrict funding only to those applications that are eligible to receive competitive preference. All applications will be evaluated and awarded points based on a number of selection criteria. Further, applications will be assessed under this competitive preference priority depending on how well an application meets the priority. We believe the inclusion of this competitive preference priority will allow for a balanced portfolio of funded applicants, including but not limited to, our most educationally disadvantaged, persistently lowest-achieving schools. For these reasons we have concluded that no changes to the competitive preference priority should be made.

Changes: None.

Comment: One commenter asked whether a school that used to be a persistently lowest-achieving school but is no longer a persistently lowest-achieving school is eligible to receive the competitive preference. The commenter suggested that a school that was formerly identified as a persistently lowest-achieving school should be eligible for the competitive preference if it can demonstrate that it has taken steps within the last five years to become a full-service community school.

Discussion: Applications that include schools that are not persistently lowest-achieving may still apply for funds under the FSCS program, but would not be eligible for the competitive preference. In order to meet the competitive preference applicants must propose to serve schools currently identified by the State as persistently lowest-achieving schools that are currently implementing or plan to implement one of three school intervention models (as defined in this notice) to become full-service community schools.

Changes: None.

Comment: One commenter asked if one of the three school intervention models must be in place for an entity to be eligible to apply for a grant under the FSCS program.

Discussion: Applications that propose to serve persistently lowest-achieving schools that are planning to implement or are currently implementing one of the three school intervention models are eligible for the competitive preference. Applications that do not propose to serve persistently lowest-achieving schools implementing or planning to implement one of the three school intervention models may still apply for an FSCS grant; however, such applications will not be eligible to receive the competitive preference.

Change: None.

Comment: Two commenters recommended adding other priorities. One commenter suggested adding a competitive preference for applicants that demonstrate an intention or plan to use site-based work and experience to catalyze district-wide change. The commenter noted that the presence of systems-level support and strong infrastructure is likely to result in the institutionalization of community school strategies. Another commenter recommended adding a competitive preference priority for applicants that collaborate with State educational agencies (SEAs) to develop mutually agreed upon performance measures for demonstrating the impact of community school interventions.

Discussion: We agree that there is greater potential impact when full-service community schools have a strong infrastructure in place to sustain the overall effort and expand the number of FSCS program sites throughout an LEA or State. Applicants have the flexibility to develop projects most appropriately suited to the needs and context of their target population. Accordingly, applicants are free to select models—including site-based management—they deem most appropriate to the needs of their proposed projects. Rather than adding a separate priority to address systemic support and infrastructure, we will revise the application requirements to focus on the importance of strong infrastructures to support full-service community schools.

In response to the commenter's recommendation that we add a competitive preference priority for applicants that collaborate with SEAs to develop mutually agreed upon community school performance measures, we decline to add this priority because applicants have the flexibility to partner with SEAs to develop a set of mutually defined performance measures but we do not believe this should be a priority.

Changes: We have revised application requirement (4), regarding organizational capacity, to require applicants to include a description of the existing or proposed infrastructure that will support the implementation and sustainability of the full-service community school.

Application Requirements

Comment: None.

Discussion: In the course of reviewing application requirement (1), regarding a description of the needs of students, students' family members, and community members to be served, we determined that requiring information about basic demographic characteristics of the target population would strengthen our understanding of the service recipients beyond their status as students, students' family members, and community members. Therefore, we have revised requirement (1) to require applicants to provide information about basic demographic characteristics of the population to be served.

Changes: We have revised application requirement (1) to require applicants to describe the needs of the students, students' family members, and community members to be served, including basic demographic characteristics of the students, students' family members, and community members.

Comment: Two commenters recommended strengthening the language in application requirement (2), which would require an applicant to provide a list of partner entities, to underscore the importance of realigning existing services and resources in support of the full-service community school. The commenters noted that community schools cannot be sustained if administrators rely entirely on the Federal FSCS program or any single funding stream.

Discussion: We agree that applicants should describe how they will realign existing resources to sustain the efforts of a full-service community school. We further believe that an applicant's primary emphasis should be on coordinating and integrating existing services and leveraged resources.

Change: We have revised application requirement (2), to provide that an applicant must describe how existing resources and services will be coordinated and integrated with new resources and services.

Comment: Two commenters recommended that we revise application requirement (3), regarding the memorandum of understanding, to provide that the memorandum of understanding include information about the services to be provided by partner entities and the results they will work toward, in addition to the role each partner entity will assume.

Discussion: We agree that the memorandum of understanding should include information about the role of each partner entity and the resources and services it will provide. This will help ensure that applicants have agreements in place to coordinate existing resources and leverage other resources. Such agreements contribute to the long-term sustainability of a community school effort. We will change the language in the final requirements accordingly.

Changes: We have revised application requirement (3) to require applicants to provide in their applications the memorandum of understanding between the applicant and all partner entities, describing the role each partner will assume, the services or resources it will provide, and the desired results and outcomes.

Comment: One commenter suggested that the Department revise application requirement (4), regarding organizational capacity, to require applicants to include in their applications a description of the existence of an infrastructure to support community schools at the LEA level. The commenter asserted that system-wide support promotes institutionalization of community schools as a strategy that will be sustained by the LEA over time.

Discussion: As discussed earlier, we agree that system-level support for community schools can promote better alignment of LEA policies, practices, and resources with the activities and intended outcomes of community schools. We also agree that requiring applicants to address this aspect of organizational capacity would enhance our ability to identify high-quality applications that are capable of achieving the desired results and outcomes. We are therefore modifying this requirement to require applicants to describe the existing or proposed infrastructure as part of an overall description of the applicant's experience partnering with the target school(s) and other partner entities, including the LEA.

Changes: We have revised application requirement (4) to provide that applicants must include in their applications a description of the existing or proposed infrastructure to support implementation and sustainability of the full service community school.

Comment: One commenter suggested that the Department require applicants to include a “logic model” in their applications. The commenter asserted that inclusion of a logic model promotes strong alignment of the goals, activities, objectives, performance measures, and outcomes of the project, resulting in a more coherent evaluation plan.

Discussion: We agree that clearly articulated and well-aligned goals, activities, objectives, performance measures, and project outcomes are critical to the design of an effective community school and are modifying the application requirements to make this clear. Applicants have the flexibility to select a logic model or use an alternative approach of their choice to describe their projects' well-aligned goals, activities, objectives, performance measures, and project outcomes.

Changes: We have revised application requirement (5), regarding a comprehensive plan, to require that applicants submit a comprehensive plan that includes a description of well-aligned goals, services, activities, objectives, performance measures, and project results and outcomes.

Comment: One commenter suggested that application requirement (6), which requires applicants to provide a list and description of eligible services to be provided, be revised. The commenter recommended that we require applicants to include a description of the applicant's approach to integrating the existing and new programs and services with the school's core instructional program.

Discussion: We agree that there should be intentional alignment among key components of a full-service community school, including the school's core instructional program, and are revising this requirement accordingly. A full-service community school should work with its partners to provide a coordinated, integrated, and results-focused set of programs and services in response to the needs of its students, students' family members, and community members. Such alignment is needed for a full-service community school to be successful in achieving a range of results and outcomes, including student academic success.

Changes: We have revised application requirement (6) to require applicants to include a description of the applicant's approach to integrating new and existing programs and services with the school's (or schools') core instructional program and identification of the intended results and outcomes.

Comment: One commenter suggested revising application requirement (7), which requires applicants to provide a description of how the applicant will use data to drive decision-making and measure success. The commenter recommended that we expand the data collection rubric to require applicants to track results of health, social, and family support indicators, in addition to the proposed academic and community support indicators.

Discussion: We agree that applicants should collect data for a range of project and program indicators to monitor and assess progress toward achieving project results and outcomes and that those indicators should align with the proposed project's goals, objectives, services, and outcomes. As noted in the NIA, published elsewhere in this issue of the Federal Register, all grantees are required to collect and report on a program-level performance measure relevant to the individuals served by the project. However, we also believe that it is important for an applicant's data plan to include information related to project services as well as the recipients of those services and are revising the requirement accordingly. Applicants may design their plans based on the design of their projects. We further believe that it is important to emphasize in this requirement the need for applicants to ensure that their data collections and use of data comply with applicable Federal, State, and other privacy laws and requirements.

Changes: We have revised application requirement (7) to require applicants to include a description in their applications of their plans to monitor and assess outcomes of the eligible services provided and coordinated by the FCSC project as well as the number of individuals served. We also have revised this requirement to specify that an applicant's plan must provide for compliance with Federal, State, and other privacy laws and requirements.

Comment: Two commenters suggested revising application requirement (8), regarding the role and responsibilities of the full-service community school coordinator. The commenter recommended that we emphasize the need for the FSCS coordinator to be an active member of a joint planning effort consisting of key stakeholders from the school and community to guide the overall community school strategy and promote a sense of shared responsibility among all partners. Another commenter suggested requiring the FSCS coordinator to be a full-time position.

Discussion: We agree that the FSCS coordinator should work closely with school leadership and community stakeholders to plan and implement a community school strategy that aligns with and strengthens core instruction. Further, the role of the FSCS coordinator should be closely linked to the leadership and management of the school, beyond simply coordinating additional programs and services. Such joint planning encourages (1) identification of and support for mutually defined results and outcomes that are responsive to students' needs, (2) alignment of services with those needs, and (3) shared accountability for achieving intended outcomes and results. We also agree that performing the duties of an FSCS coordinator entails a full-time commitment and are revising the requirement accordingly.

Changes: We have revised application requirement (8) to require that the FSCS coordinator be employed full-time in that position at the full-service community school and that the applicant include a description of its proposed approach to ensuring that the FSCS coordinator engages in joint planning with the principal and key community stakeholders to guide the proposed full-service community school.

Comment: One commenter suggested that all full-service community schools be required to be open from 7:00 a.m. to 10:00 p.m. so as to expand community access to the facilities in order to achieve maximum utilization of available resources.

Discussion: We agree that full-service community schools should consider creative ways to expand learning opportunities and access to services and supports, including by extending hours of building facilities. However, we believe that such decisions are best left to applicants to determine based on the unique circumstances in their schools and communities.

Changes: None.

Eligible Applicants

Comment: One commenter recommended that the Department broaden the definition of Eligible Applicants to include a consortium of schools or an LEA because, as the requirement is currently written, a consortium of schools in a particular LEA could not apply without the approval of its LEA.

Discussion: Eligible applicants under the FSCS program are consortia consisting of an LEA and one or more community-based organizations, non-profit organizations, or other public or private entities. A public elementary or secondary school that has the independent authority to apply for a grant from the Department may do so. Generally, however, an individual school does not have independent authority to apply for a grant from the Department, or make the commitments required of a consortium partner. Consequently, in most cases, public elementary and secondary schools, while they can serve as FSCS sites, cannot be consortium partners or lead applicants and will need their LEA to form a consortium and submit an application to the Department.

Changes: None.

Planning

Comment: Some commenters suggested amending the language for the optional planning year to direct applicants to devote adequate funding for comprehensive planning, capacity building, technical assistance, and evaluation. One commenter stated that grantees implementing one of the three school intervention models should be required to devote adequate funding for the first year of the project period to plan and obtain intensive technical assistance to build capacity for implementing a full-service community school. The commenter noted that schools undergoing significant restructuring tend to require intensive support for planning and implementation.

Discussion: We agree that including capacity-building activities as an allowable use of funds during the planning year will help address some of the technical assistance needs of projects that are in various stages of readiness and are modifying the requirement to provide this clarification. We believe that including comprehensive program planning and capacity-building as allowable activities in the first year of the project period will make those activities sufficiently broad in scope to cover the diverse needs of FSCS applicants, including the need for intensive technical assistance.

Changes: We have revised the requirement regarding the optional planning year to allow applicants to use FSCS funds for capacity building and establishing results-focused partnerships, as well as comprehensive program planning.

Definitions

Comment: One commenter suggested adding definitions to describe the concepts of “results-focused partnerships” and “conditions for learning” to provide greater context for the FSCS program.

Discussion: We agree that defining “results-focused partnerships” would highlight the importance of partners working collaboratively to achieve shared results and outcomes. In this regard, we believe that it is important for school-community partnerships to be based on identified needs and organized around a set of mutually defined results and outcomes. We are adding a definition of results-focused partnerships that reflects these key concepts.

In terms of defining “conditions for learning,” we acknowledge that in order for students and the members of the communities in which they reside to thrive, their schools must be effective. Effective schools create learning environments that support student academic success and other outcomes. When characterized by stable leadership and a strong instructional program, full-service community schools have been associated with improved attendance and student achievement,² increased family and community engagement,³ and improved student behavior and youth development.⁴ However, we decline to add a definition of this term because we believe there are numerous factors that contribute to effective learning and defining the term might limit applicants' flexibility in developing their proposals.

² Krenichyn, Kira, Helene Clark, and Lymari Benitez (2008). Children's Aid Society 21st Century Community Learning Centers After-School Programs at Six Middle Schools: Final Report of a Three-Year Evaluation, 2004-2007. New York: ActKnowledge.

³ Quinn, Jane, and Joy Dryfoos (2009). Freeing teachers to teach: Students in full-service community schools are ready to learn. American Educator, Summer 2009:16-21.

⁴ Whalen, Samuel (2007). Three Years Into Chicago's Community Schools Initiative (CSI): Progress, Challenges, and Emerging Lessons. Chicago: University of Illinois at Chicago. Retrieved April 9, 2010, from http://www.aypf.org/documents/CSI_ThreeYearStudy.pdf.

Changes: We have added the term results-focused partnerships to the Definitions section of this notice and defined it to mean collaboration between a full-service community school and one or more nonprofit organizations (including community-based organizations) based on identified needs and organized around a set of mutually defined results and outcomes for increasing student success and improving access to family and community services. We have added this term throughout this notice, where appropriate.

Comment: One commenter suggested revising the definition of a full-service community school to highlight the importance of providing integrated services in response to identified needs. The commenter also recommended revising the definition of full-service community school coordinator to underscore the FSCS coordinator's role in planning jointly with the school principal.

Discussion: We agree that the commenter's suggested edits strengthen and clarify the meaning of full-service community school and FSCS coordinator and are revising the definitions accordingly.

Changes: We have revised the first sentence of the definition of full-service community school to indicate that services must be integrated as well as coordinated. We have also revised the definition of full-service community school coordinator to provide that the FSCS coordinator works closely and plans jointly with the school principal to drive the development and implementation of the full-service community school.

Comment: One commenter suggested revising the definition of student to include all children eligible to attend the school served by the FSCS grant, not just those enrolled.

Discussion: We believe it is unnecessary to revise the definition of student because a child residing in the community served by the full-service community school could be eligible for services under the definitions of either student's family member or community member. A student means a child enrolled in a public elementary or secondary school served by the FSCS grant. A child who lives in the community and has a sibling or any other related individual living in the same household as the student would fall under the definition of student's family member and, therefore, would be eligible for services under that definition. A child who does not meet the definition of student or student's family member, but who lives in the community served by the FSCS grant, would be eligible for services under the definition of community member.

Changes: None.

Selection Criteria—Quality of Management Plan

Comment: One commenter suggested revising selection criterion (c)(ii), Quality of the Management Plan, to include consideration of the applicant's plan to obtain technical assistance for community school planning and implementation.

Discussion: We do not believe applicants should be required to obtain technical assistance, but if an applicant were to propose using FSCS funds to obtain technical assistance, then that would be evaluated along with other proposed uses of funds. Applicants should determine for themselves their need for technical assistance in planning and implementing their proposed project.

Changes: None.

Selection Criteria—Quality of Project Services

Comment: One commenter suggested that we revise selection criterion (d)(2)(ii), Quality of Project Services, to provide for consideration of the likelihood that the services to be provided will lead to improvements in children's social and emotional outcomes in addition to outcomes related to student achievement.

Discussion: We agree that a child's academic, social, and emotional development can contribute to the child's long-term economic and social success. We decline, however, to revise selection criterion (d)(2)(ii), Quality of Project Services, in order to maintain focus on the Department's reform goal of improving the academic achievement of students. We also believe that consideration of the complete range of supports and the desired results and outcomes of a proposed project is best addressed in other selection criteria, such as Quality of the Project Design.

Changes: None.

Comment: One commenter recommended adding a selection criterion that would be used to judge the extent to which applicants create and expand technology infrastructure to support the work of community schools.

Discussion: We agree that use of technology infrastructure can support attainment of student outcomes as well as support program management by enhancing a grantee's ability to use data to drive decision-making and measure success. However, we do not believe it is necessary to add a selection criterion specifically focused on technology infrastructure because technology infrastructure may be addressed in an applicant's responses to other selection criteria, such as Quality of the Project Design, Adequacy of Resources, and Quality of the Management Plan.

Changes: None.

Final Priorities

Types of Priorities

When inviting applications for a competition using one or more priorities, we designate the type of each priority as absolute, competitive preference, or invitational through a notice in the Federal Register.

Absolute priority: Under an absolute priority, as specified by 34 CFR 75.105(c)(3), we consider only applications that meet the priority.

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii).

Invitational priority: With an invitational priority, we signal our interest in receiving applications that meet the priority; however, consistent with 34 CFR 75.105(c)(1), we do not give an application that meets an invitational priority preference over other applications.

Final Priorities: The Secretary establishes the following priorities for the Full-Service Community Schools program. We may apply these priorities in any year in which this program is in effect.

Absolute Priority—Projects That Establish or Expand Full-Service Community Schools

This absolute priority supports projects that propose to establish or expand (through collaborative efforts among local educational agencies, community-based organizations, nonprofit organizations, and other public and private entities) full-service community schools, as defined in this notice, offering a range of services. To meet this priority, an applicant must propose a project that is based on scientifically based research—as defined in section 9101(37) of the ESEA—and that establishes or expands a full-service community school. Each applicant must propose to provide at least three of the following eligible services at each participating full-service community school included in its proposed project:

1. High-quality early learning programs or services.

2. Remedial education, aligned with academic supports and other enrichment activities, providing students with a comprehensive academic program.

3. Family engagement, including parental involvement, parent leadership, family literacy, and parent education programs.

4. Mentoring and other youth development programs;

5. Community service and service learning opportunities.

6. Programs that provide assistance to students who have been chronically absent, truant, suspended, or expelled.

7. Job training and career counseling services.

8. Nutrition services and physical activities.

9. Primary health and dental care.

10. Activities that improve access to and use of social service programs and programs that promote family financial stability.

11. Mental health services.

12. Adult education, including instruction of adults in English as a second language.

Competitive Preference Priority—Strategies That Support Turning Around Persistently Lowest-Achieving Schools

We give competitive preference to applications that propose to serve persistently lowest-achieving schools, as defined in this notice, and are currently implementing or plan to implement one of three school intervention models, as defined in this notice, to enable these schools to become full-service community schools. Applicants seeking to receive this priority must describe (a) the school intervention model that would be or is being implemented to improve academic outcomes for students; (b) the academic, social, and/or health services that would be provided and why; and (c) how the academic, social and/or health services provided would align with and support the school intervention model implemented.

Requirements

Requirements: The Secretary establishes the following requirements for the FSCS program. We may apply these requirements in any year in which this program is in effect.

In order to receive funding, an applicant must include the following in its application:

1. A description of the needs of the students, students' family members, and community members to be served, including information about (a) the basic demographic characteristics of the students, students' family members, and community members; (b) the magnitude or severity of the needs to be addressed by the project; and (c) the extent to which specific gaps or weaknesses in services, infrastructures, or opportunities have been identified and will be addressed by the proposed project.

2. A list of entities that will partner with the applicant to coordinate existing services or to provide additional services that promote successful student, family, and community results and outcomes. The applicant must describe how existing resources and services will be coordinated and integrated with new resources and services.

3. A memorandum of understanding between the applicant and all partner entities, describing the role each partner will assume, the services or resources each one will provide, and the desired results and outcomes.

4. A description of the organizational capacity of the applicant to provide and coordinate eligible services at a full-service community school that will support increased student achievement. The description must include the applicant's experience partnering with the target school(s) and other partner entities; examples of how the applicant has responded to challenges working with these schools and entities; lessons learned from similar work or previous community-school efforts, and a description of the existing or proposed infrastructure to support the implementation and sustainability of the full-service community school. Applicants must also describe their past experience (a) building relationships and community support to achieve results; and (b) collecting and using data for decision-making and continuous improvement.

5. A comprehensive plan based on results-focused partnerships, as defined in this notice, that includes a description of well-aligned goals, services, activities, objectives, performance measures, and project results and outcomes. In addition, the plan must include the estimated total number of individuals to be served, disaggregated by the number of students, students' family members, and community members, and the type and frequency of services to be provided to each group.

6. A list and description of the eligible services to be provided or coordinated by the applicant and the partner entities; a description of the applicant's approach to integrating new and existing programs and services with the school's (or schools') core instructional program; and identification of the intended results and outcomes.

7. A description of how the applicant will use data to drive decision-making and measure success. This includes a description of the applicant's plans to monitor and assess outcomes of the eligible services provided and coordinated by the FSCS project, as well as the number of individuals served, while complying with Federal, State, and other privacy laws and requirements.

8. A description of the roles and responsibilities of a full-time FSCS coordinator and the proposed approach to ensuring that the FSCS coordinator engages in joint planning with the principal and key community stakeholders to guide the proposed full-service community school.

Eligible Applicants

To be eligible for a grant under this competition, an applicant must be a consortium consisting of a local educational agency and one or more community-based organizations, nonprofit organizations, or other public or private entities.

Cost-Sharing or Matching

To be eligible for an award, a portion of the services provided by the applicant must be supported through non-Federal contributions, either in cash or in-kind donations. The applicant must propose the amount of cash or in-kind resources to be contributed for each year of the grant.

Planning

Interagency collaborative efforts are highly complex undertakings that require extensive planning and communication among partners and key stakeholders. Partnerships should be based on identified needs and organized around a set of mutually-defined results and outcomes. As a result, applicants under this program may devote funds received during the first year of the project period to comprehensive program planning, establishing results-focused partnerships, and capacity building. Funding received by grantees during the remainder of the project period must be devoted to program implementation.

Definitions

The Secretary uses the following definitions for this program. We may apply these definitions in any year in which this program is in effect.

Community member means an individual who is not a student or a student's family member, as defined in this notice, but who lives in the community served by the FSCS grant.

Full-service community school means a public elementary or secondary school that works with its local educational agency and community-based organizations, nonprofit organizations, and other public or private entities to provide a coordinated and integrated set of comprehensive academic, social, and health services that respond to the needs of its students, students' family members, and community members. In addition, a full-service community school promotes family engagement by bringing together many partners in order to offer a range of supports and opportunities for students, students' family members, and community members.

Full-service community school coordinator means an individual who works closely and plans jointly with the school's principal to drive the development and implementation of the FSCS effort and who, in that capacity, facilitates the partnerships and coordination and integration of service delivery.

Persistently lowest-achieving school means, as determined by the State under the School Improvement Grants program (pursuant to the final requirements for the School Improvement Grants program, 74 FR 65618, published in the Federal Register on December 10, 2009)—

(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

Results-focused partnership means a partnership between a full-service community school and one or more nonprofit organizations (including community-based organizations) that is based on identified needs and organized around a set of mutually defined results and outcomes for increasing student success and improving access to family and community services.

School intervention model means one of the following three specific interventions described in the final requirements for the School Improvement Grants program, 74 FR 65618, published in the Federal Register on December 10, 2009 and summarized as follows:

(1) Turnaround model, which includes, among other actions, replacing the principal and rehiring no more than 50 percent of the school's staff, adopting a new governance structure, and implementing an instructional program that is research-based and vertically aligned from one grade to the next as well as aligned with a State's academic standards.

(2) Restart model, in which a local educational agency converts the school or closes and reopens it under the management of a charter school operator, a charter management organization, or an education management organization that has been selected through a rigorous review process.

(3) Transformation model, which addresses four specific areas critical to transforming persistently lowest-achieving schools: (i) Replace the principal and take steps to increase teacher and school effectiveness; (ii) institute comprehensive instructional reforms; (iii) increase learning time and create community-oriented schools; (iv) provide operational flexibility and sustained support.

Student means a child enrolled in a public elementary or secondary school served by the FSCS grant.

Student's family member means the student's parents/guardians, siblings, and any other related individuals living in the same household as the student and not enrolled in the school served by the FSCS grant.

Selection Criteria

Final Selection Criteria

The Secretary establishes the following selection criteria for evaluating an application under the FSCS program. We may apply one or more of these criteria in any year in which this program is in effect. In the notice inviting applications, the application package, or both, we will announce the maximum possible points assigned to each criterion.

(a) Quality of the Project Design.

(1) The Secretary considers the quality of the design of the proposed project.

(2) In determining the quality of the design of the proposed project, the Secretary considers the extent to which the proposed project consists of a comprehensive plan that includes a description of—

(i) The project objectives;

(ii) The students, students' family members, and community to be served, including information about the demographic characteristics and needs of the students, students' family members, and other community members and the estimated number of individuals to be served; and

(iii) The eligible services (as listed in the Absolute Priority described elsewhere in this notice) to be provided or coordinated by the applicant and its partner entities, how those services will meet the needs of students, students' family members, and other community members, and the frequency with which those services will be provided to students, students' family members, and community members.

(b) Adequacy of Resources.

(1) The Secretary considers the adequacy of resources for the proposed project.

(2) In determining the adequacy of resources for the proposed project, the Secretary considers the following factors:

(i) The adequacy of support, including facilities, equipment, supplies, and other resources to be provided by the applicant and consortium partners;

(ii) The relevance and demonstrated commitment of each partner in the proposed project to the implementation and success of the project; and

(iii) The extent to which costs are reasonable in relation to the number of persons to be served and services to be provided.

(c) Quality of the Management Plan.

(1) The Secretary considers the quality of the management plan for the proposed project.

(2) In determining the quality of the management plan for the proposed project, the Secretary considers the following factors:

(i) The extent to which the proposed project consists of a comprehensive plan that includes a description of planning, coordination, management, and oversight of the eligible services (as listed in the Absolute Priority described elsewhere in this notice) to be provided at each school to be served, including the role of the school principal, the FSCS coordinator, partner entities, parents, and community members;

(ii) The qualifications, including relevant training and experience, of the FSCS coordinator and other key project personnel including prior performance of the applicant on similar or related efforts; and

(iii) The extent to which the time commitments of the project director, the FSCS coordinator, and other key project personnel are appropriate and adequate to meet the objectives of the proposed project.

(d) Quality of Project Services.

(1) The Secretary considers the quality of the services to be provided by the proposed project.

(2) In determining the quality of the project services, the Secretary considers the following:

(i) The extent to which the services to be provided by the proposed project reflect up-to-date knowledge from research and effective practice; and

(ii) The likelihood that the services to be provided by the proposed project will lead to improvements in the achievement of students as measured against rigorous academic standards.

(e) Quality of the Project Evaluation.

(1) The Secretary considers the quality of the evaluation to be conducted of the proposed project.

(2) In determining the quality of the evaluation, the Secretary considers the extent to which the proposed evaluation—

(i) Sets out methods of evaluation that include the use of objective performance measures that are clearly related to the intended outcomes of the project and will produce quantitative and qualitative data to the extent possible;

(ii) Will provide timely and valid information on the management, implementation, or efficiency of the project; and

(iii) Will provide guidance on or strategies for replicating or testing the project intervention in multiple settings.

Factors Applicants May Wish to Consider in Developing an Evaluation Plan.

The quality of the evaluation plan is one of the selection criteria by which applications in this competition will be judged. A strong evaluation plan should be included in the application narrative and should be used, as appropriate, to shape the development of the project from the beginning of the project period. The plan should include benchmarks to monitor progress toward specific project objectives and also outcome measures to assess the impact on teaching and learning or other important outcomes for project participants. More specifically, the plan should identify the individual or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to project evaluation.

This notice does not preclude us from proposing additional priorities, requirements, definitions, or selection criteria, subject to meeting applicable rulemaking requirements.

Note: This notice does not solicit applications. In any year in which we choose to use these final priorities and one or more of these final requirements, definitions, and selection criteria, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities, requirements, definitions, and selection criteria justify the costs.

We have determined, also, that this final regulatory action does not unduly interfere with State, local, and tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http//www.gpoaccess.gov/nara/index.html.

Dated: June 3, 2010.
James H. Shelton, III,
Assistant Deputy Secretary for Innovation and Improvement.

[FR Doc. 2010-13775 Filed 6-7-10; 8:45 am]

BILLING CODE 4000-01-P